DEPARTMENT OF HEALTH AND HUMAN SERVICES (DHHS)

Administration for Children and Families (ACF)

[Program Announcement No. ACF-ADD-07-10-2003]

Developmental Disabilities: Final Notice of Availability of Financial Assistance and Request for Applications for Support Demonstration Projects Under the Projects of National Significance Program

AGENCY: Administration on Developmental Disabilities (ADD), ACF, DHHS.

CFDA: The Catalogue of Federal Domestic Assistance number is 93.631—Developmental Disabilities—Projects of National Significance.

ACTION: Invitation to apply for financial assistance.

SUMMARY: The Administration on Developmental Disabilities (ADD), Administration for Children and Families (ACF), is accepting applications for Fiscal Year 2003 Projects of National Significance (PNS).

This Program Announcement consists of five parts. Part I, the Introduction, discusses the goals and objectives of ACF and ADD, while Part II provides background information on ADD for applicants. Part III outlines the grant review process for submitted applications. Part IV describes the Priority Area under which ADD requests applications for Fiscal Year 2003 funding of projects. Finally, Part V provides detailed information for preparing and submitting the application.

Grants will be awarded under this Program Announcement subject to the availability of funds for support of these activities.

DATES: The closing date for submission of applications under this Program Announcement is August 29, 2003. Mailed or hand-carried applications received after 4:30 p.m. on the closing date will be classified as late.

Deadline: Mailed applications shall be considered as meeting an announced deadline if they are received on or before the deadline time and date at the U.S. Department of Health and Human Services, ACF, Office of Grants Management, 370 L'Enfant Promenade SW, 8th Floor, Washington, DC 20447, Attention: Lois Hodge.

Applications hand-carried by applicants, applicant couriers, other representatives of the applicant, or by overnight/express mail couriers shall be considered as meeting an announced deadline if they are received on or before the closing date, between the hours of 8 a.m. and 4:30 p.m., EST, at the U.S. Department of Health and Human Services, Office of Grants Management, ACF Mail Center, 2nd Floor (near loading dock), Aerospace Center, 901 D Street, SW., Washington, DC 20024, between Monday and Friday (excluding Federal holidays). This mailing address must appear on the envelope/package containing the application with the note “Attention: Lois Hodge.” Applicants using express/overnight services should allow two working days (working days are defined as Monday through Friday, excluding Federal Holidays) prior to the closing date for receipt of applications. (Note to Applicants: Express/overnight mail services do not always deliver in the agreed upon timeframe.)

Any applications received after 4:30 p.m. on the closing date will not be considered for competition. All applications shall be mailed or hand-carried at the request and expense of the applicant. Additional material will not be accepted or added to an application after the closing date.

ACF cannot, at the present time, accommodate transmission of applications by fax, e-mail, or through other electronic media. Applications transmitted electronically will not be accepted for consideration under this Program Announcement.

For purposes of this grant competition, ACF will not be notifying applicants that their application was received by the deadline. Applicants will, however, be notified of the status of their application in writing after the review process has been completed.

Late Applications: Applications that do not meet the criteria above are considered late applications. ADD shall notify each late applicant that its application will not be considered in the current competition.

Extension of Deadlines: ACF may extend the closing date for all applicants because of acts of God, such as floods and hurricanes, widespread disruption of the mail or when it is anticipated that many of the applications will come from rural or remote areas. However, if ACF does not extend the closing date for all applicants, it may not waive or extend the deadline for any applicant.

ADDRESSES: Application materials are available from April Myers, 370 L'Enfant Promenade, SW, Mail Stop: HHH-300F, Washington, DC, 20447, amyers@acf.hhs.gov or (202) 690-5985.

FOR FURTHER INFORMATION CONTACT: For information about the application process, program information and application materials contact, Administration for Children and Families (ACF), Lois Hodge, Grants Officer, 370 L'Enfant Promenade, SW, Washington, DC, 20447, 202/401-2344, lhodge@acf.hhs.gov or April Myers, Program Specialist, 370 L'Enfant Promenade, SW, Mail Stop: HHH-300F, Washington, DC, 20447, or send e-mail to amyers@acf.hhs.gov, or fax (202) 690-6904.

Notice of Intent to Submit Application: If you intend to submit an application, please send a fax or e-mail with the number and title of this Program Announcement, your organization's name and address, your contact person's name, your contact's phone and fax numbers, and their e-mail address to: Administration on Developmental Disabilities, Attention: April Myers, fax: (202) 690-6904, e-mail: amyers@acf.hhs.gov. This information will be used to determine the number of expert reviewers needed and to update the mailing list for future Program Announcements from ADD.

Available Funds: Subject to the availability of funding. ADD intends to award new grants resulting from this Program Announcement during the fourth quarter of Fiscal Year 2003. For the purpose of the awards under this Program Announcement, the successful applicants should expect a project start date of September 30, 2003. Up to $3 million in Federal funds will be available to support as many as 30 projects this fiscal year.

Additionally, successful applicants under this Program Announcement may be eligible to compete for implementation funds in Fiscal Year 2004. The Priority Area descriptions include information on the maximum Federal share of the project costs and the anticipated number of projects to be funded.

The term “budget period” defines a one-year (12 months) interval of time. Where applicable, a multi-year period of assistance (referred to as the project period) is divided for budgetary and funding purposes into one-year budget periods. The term “project period” means the total time a project is approved for support, including continuation applications and any federally approved extensions.

Where appropriate, applicants may propose shorter project periods than the maximums specified in the Priority Area. Non-Federal share contributions may exceed the minimums specified in the Priority Area.

Federal Share of Project Costs: The maximum Federal share of the project is $100,000 per project period.

SUPPLEMENTARY INFORMATION:

Part I: General Information

A. Goals of the Administration on Developmental Disabilities

The Administration on Developmental Disabilities (ADD) is located within the Administration for Children and Families (ACF) at the Department of Health and Human Services (DHHS). ADD shares common goals with other ACF programs that promote the economic and social well being of families, children, individuals, and communities. ACF and ADD envision:

• Families and individuals empowered to increase their own economic independence and productivity;

• Strong, healthy, supportive communities having a positive impact on the quality of life and the development of children;

• Partnerships with individuals, front-line service providers, communities, States, and Congress that enable solutions that transcend traditional agency boundaries;

• Services planned and integrated to improve access to programs and supports for individuals and families;

• A strong commitment to working with Native Americans, persons with developmental disabilities, refugees and migrants to address their individual needs, strengths and abilities; and

• A community-based approach that recognizes and expands on the resources and benefits of diversity.

The goals, listed above, will enable more individuals, including people with developmental disabilities, to live productive and independent lives integrated into their communities. The Projects of National Significance (PNS) Program is one means through which ADD promotes the achievement of these goals.

B. Purpose of the Administration on Developmental Disabilities

The Administration on Developmental Disabilities (ADD) is the lead agency within ACF and DHHS responsible for planning and administering programs to promote the self-sufficiency and protect the rights of persons with developmental disabilities. ADD implements the Developmental Disabilities Assistance and Bill of Rights Act, the DD Act, which was reauthorized by Congress in 2000.

The DD Act of 2000 (42 U.S.C.15001, et seq.) supports and provides assistance to States, public agencies, and private nonprofit organizations to assure that individuals with developmental disabilities and their families participate in the design of and have access to culturally competent services, supports, and other assistance and opportunities that promote independence, productivity, integration, and inclusion into the community.

As defined in the DD Act, the term “developmental disabilities” means a severe, chronic disability of an individual that is attributable to a mental or physical impairment or combination of mental and physical impairments that is manifested before the individual attains age 22 and is likely to continue indefinitely. Developmental disabilities result in substantial limitations in three or more of the following functional areas; self-care, receptive and expressive language, learning, mobility, self-direction, capacity for independent living, and capacity for economic self-sufficiency.

In the DD Act includes a number of findings, including:

• Disability is a natural part of the human experience that does not diminish the right of individuals with developmental disabilities to enjoy the opportunity for independence, productivity, integration, and inclusion into the community;

• Individuals whose disabilities occur during their developmental period frequently have severe disabilities that are likely to continue indefinitely; and

• Individuals with developmental disabilities often require lifelong specialized services and assistance, provided in a coordinated and culturally competent manner by many agencies, professionals, advocates, community representatives, and others to eliminate barriers and to meet the needs of such individuals and their families.

The DD Act further promotes the best practices and policies presented below:

• Individuals with developmental disabilities, including those with the most severe developmental disabilities, are capable of achieving independence, productivity, integration and inclusion into the community, and often require the provision of services, supports, and other assistance to achieve such;

• Individuals with developmental disabilities have competencies, capabilities, and personal goals that should be recognized, supported, and encouraged, and any assistance to such individuals should be provided in an individualized manner, consistent with the unique strengths, resources, priorities, concerns, abilities, and capabilities of the individual; and

• Individuals with developmental disabilities and their families are the primary decision makers regarding the services and supports such individuals and their families receive; and play decision making roles in policies and programs that affect the lives of such individuals and their families.

Toward these ends, ADD seeks to support and accomplish the following:

• Enhance the capabilities of families in assisting individuals with developmental disabilities to achieve their maximum potential;

• Support the increasing ability of individuals with developmental disabilities to exercise greater choice and self-determination and to engage in leadership activities in their communities; and

• Ensure the protection of individuals with developmental disabilities' legal and human rights.

The four programs funded under the Act are:

• State Developmental Disabilities Councils;

• State Protection and Advocacy Systems for Individuals Rights;

• Grants to the National Network of University Centers for Excellence in Developmental Disabilities, Education, Research, and Service; and

• Grants for Projects of National Significance.

C. Statutory Authorities Covered Under This Announcement

This Announcement is covered under the Developmental Disabilities Assistance and Bill of Rights Act of 2000, 42 U.S.C. 15001, et seq. The Projects of National Significance (PNS) is part E of the DD Act of 2000, 42 U.S.C. 15081, et seq.

Part II. Background Information For Applicants

A. Description of Projects of National Significance

Under part E of the Act, grants and contracts are awarded for Projects of National Significance (PNS) that support the development of national and State policies to enhance the independence, productivity, integration, and inclusion of individuals with developmental disabilities through:

• Data collection and analysis;

• Technical assistance to enhance the quality of State Developmental Disabilities Councils and University Centers for Excellence in Developmental Disabilities; and

• Other projects of sufficient size and scope that hold promise to expand or improve opportunities for people with developmental disabilities, including:

(a) Technical assistance for the development of information and referral systems;

(b) Educating policy makers;

(c) Federal interagency initiatives;

(d) The enhancement of participation of minority and ethnic groups in public and private sector initiatives in developmental disabilities; and

(e) Transition of youth with developmental disabilities from school to adult life.

The purpose of the Projects of National Significance (PNS) program is not only to provide technical assistance to the Developmental Disabilities Councils, the Protection and Advocacy Systems, and the University Centers for Excellence in Developmental Disabilities, but also to support projects “that hold promise to expand or improve opportunities for individuals with developmental disabilities.” PNS grantees often challenge traditional thinking and common service practices.

Last Fiscal Year, projects were funded in the following five Priority Areas:

• Learning through Assisting;

• Creating and Celebrating One Community for All Citizens;

• Enhancing Early Literacy and Education for Children with Developmental Disabilities;

• Increasing Access in Rural Communities; and

• Expanding Positive Youth Development Activities for Young People with Developmental Disabilities.

Project activities that received funding in 2002 ranged from creating opportunities for high school students to earn service learning credits working with children with disabilities to improving transportation options for individuals with disabilities residing in rural America. For more information about previous projects and their goals, visit ADD's Web site at http://www.acf.hhs.gov/programs/add.

The 2003 Priority Area relates to the outcomes contained in ADD's plan for implementing the Government Performance Reporting Act (GPRA). In general, projects are expected to increase community support and services, promote self-determination and productivity, and encourage interaction and collaboration among all sectors of the developmental disabilities service system, including public and private sectors. Applicants are encouraged to tailor their grant applications to fit this year's Priority Area.

Part III. The Review Process

A. Eligible Applicants

Before applications under this Program Announcement are reviewed, each one will be screened to determine whether the applicant is eligible for funding under this year's Priority Area. Applications from organizations that do not meet the eligibility requirements for the Priority Area will not be considered or reviewed in the competition, and the applicant will be so informed.

Under this Program Announcement, the Governor of the applicant's State or Territory must designate the applicant as the lead agency for the State/Territory. Acceptable proof of the Governor's designation is a letter from the Governor's office, with his or her official signature, identifying the lead agency by name. The designation letter must accompany the applicant's proposal package to ADD by the closing date. For purposes of this Program Announcement, each State and Territory may have only one lead applicant designated as the lead agency; however, an application must include State and local partnerships.

Project activities must be conducted in partnership with at least one local elected official, the State Developmental Disabilities Council, the State Protection and Advocacy System, and the University Center(s) on Developmental Disabilities in the State/Territory, as well as others (including, but not limited to, disability-related service providers, advocacy groups, family support groups, family strengthening groups, and faith-based organizations).

Individuals are not eligible to apply under this Program Announcement. All applications must identify and acknowledge the designated lead applicant as the official applicant. Participating agencies and organizations should be included as co-participants, sub-grantees, or subcontractors.

Nonprofit organizations must submit proof of their nonprofit status in the application at the time of submission. Proof of status includes providing a copy of the applicant's listing in the Internal Revenue Service's most recent list of tax-exempt organizations described in section 501 (c) (3) of the IRS code, a copy of a valid IRS tax exemption certificate, or a copy of the articles of incorporation bearing the seal of the State in which the corporation or association is domiciled. ADD cannot fund a nonprofit applicant without acceptable proof of its nonprofit status.

Faith-based organizations are eligible to apply for PNS grants if they meet the eligibility requirements stated above.

Private, nonprofit organizations are encouraged to submit with their applications the optional survey located under “Grants Manuals & Forms” at http://www.acf.hhs.gov/programs/ofs/forms.htm.

B. Review Process and Funding Decisions

Applications under this Program Announcement (Number 93631—) from eligible applicants received by the deadline date will be competitively reviewed and scored. Experts in the field, generally persons from outside the Federal Government, will use the evaluation criteria listed later in this Part of the Program Announcement to review and score the applications. The results of this review are a primary factor in making funding decisions.

ADD reserves the option of discussing applications with, or referring them to, other Federal or non-Federal funding sources when this is determined to be in the best interest of the Federal Government and/or the applicant. ADD may also solicit comments from ACF Regional Office staff, other Federal agencies, interested foundations, national organizations, specialists, experts, States, and the general public. ADD will consider these comments, along with those of the expert reviewers, in making funding decisions.

In making PNS decisions for 2003 grant awards, ADD will consider whether applications focus on or feature the following aspects/activities in their project design to the extent appropriate:

• A substantially innovative strategy with the potential to improve theory or practice in the field of human services;

• A model practice or set of procedures that holds the potential for replication by organizations administering or delivering human services;

• A substantial involvement of volunteers, the private sector (either financial or programmatic), and/or national or community foundations;

• A favorable balance between Federal and non-Federal funds available for the proposed project, which is likely to result in the potential for high benefit for low Federal investment; and

• A programmatic focus on those most in need of services and assistance, such as unserved and underserved populations, including underserved cultural, ethnic, and racial minority populations.

To the greatest extent possible, efforts will be made to ensure that funding decisions reflect an equitable distribution of assistance among the States and geographical regions of the country, and rural and urban areas. In making these decisions, ADD may also take into account the need to avoid unnecessary duplication of effort.

C. Evaluation Process

Using the evaluation criteria (described under the Priority Area in part IV), a panel of at least three reviewers (primarily experts from outside the Federal Government) will evaluate and score the applications. To facilitate this review, applicants should ensure that they address the minimum requirements identified in the Priority Area description under the appropriate section of the Program Narrative Statement.

Reviewers will determine the strengths and weaknesses of each application in terms of the evaluation criteria listed below; provide comments; and assign numerical scores. The point value following each criterion heading under the Priority Area in part VI indicates the maximum numerical weight that each applicant may receive per section in the review process.

D. Grantee Share of Project Costs

Grantees must match $1 for every $3 requested in Federal funding; to provide 25% of the total approved cost of the project. The total approved cost of the project is the sum of the ACF share and the non-Federal share. The non-Federal share may be met by cash or in-kind contributions, although applicants are encouraged to meet their match requirements through cash contributions. Therefore, a project requesting $100,000 in Federal funds must include a match of at least $33,333 (total project cost is $133,333 of which $33,333 is 25%). Applicants must provide letter(s) of commitment, verifying the actual amount and source(s) of the non-Federal share of the proposed costs.

An exception to the grantee cost-sharing requirement relates to applications originating from American Samoa, Guam, the Virgin Islands, and the Commonwealth of the Northern Mariana Islands. Applications from these areas are covered under section 501(d) of Public Law 95-134, which requires that the Department waive any requirement for local matching funds for grants under $200,000.

The applicant contribution must be secured from non-Federal sources, except as provided by Federal statute. A cost-sharing or matching requirement may not be met by costs from another Federal grant, unless Federal statue sanctions such. For example, funds from Federal programs that benefit Tribes and Native American organizations have been used to provide valid sources of matching funds. Any Tribe or Native American organization submitting an application to ADD should identify the Federal program(s) that will provide the matching funds in its application. If the applicant is selected to receive PNS funds, then ADD will determine whether there is statutory authority for use of such funds. The Administration for Native Americans and the DHHS Office of General Counsel will assist ADD in making this determination.

E. General Instructions for the Uniform Project Description

The following ACF Uniform Project Description (UPD) has been approved under OMB Control Number 0970-0139. Applicants are required to submit a full project description and must prepare the project description statement in accordance with the following instructions.

1. Project Summary/Abstract

Provide a summary of the project description (a page or less) with reference to the funding request.

2. Objectives and Need for Assistance

Clearly identify the physical, economic, social, financial, institutional and/or other problem(s) requiring a solution. The need for assistance must be demonstrated and the principal and subordinate objectives of the project must be clearly stated; supporting documentation, such as letters of support and testimonies from concerned interests other than the applicant, may be included. Any relevant data based on planning studies should be included or referred to in the endnotes/footnotes. Incorporate demographic data and participant/beneficiary information, as needed. In developing the project description, the applicant may volunteer or be requested to provide information on the total range of projects currently being conducted and supported (or to be initiated) some of which may be outside the scope of the Program Announcement.

3. Results or Benefits Expected

Identify the results and benefits to be derived. For example, when applying for a grant to establish a neighborhood child care center, describe who will occupy the facility, who will use the facility, how the facility will be used, and how the facility will benefit the community which it will serve.

4. Approach

Outline a plan of action that describes the scope and detail of how the proposed work will be accomplished. Account for all functions or activities identified in the application. Cite factors, which might accelerate or decelerate the work, and state your reason for taking the proposed approach rather than others. Describe any unusual features of the project such as design or technological innovations, reductions in cost or time, or extraordinary social and community involvement. Provide quantitative monthly or quarterly projections of the accomplishments to be achieved for each function or activity in such terms as the number of people to be served and the number of microloans made. Where activity or function cannot quantify accomplishments, list them in chronological order to show the schedule of accomplishments and their target dates.

Identify the kinds of data to be collected, maintained, and/or disseminated. Note that clearance from the U.S. Office of Management and Budget might be needed prior to a “collection of information” that is “conducted or sponsored” by ACF. List organizations, cooperating entities, consultants, or other key individuals who will work on the project along with a short description of the nature of their effort or contribution.

5. Organization Profile

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission. The non-profit agency can accomplish this by providing a copy of the applicant's listing in the Internal Revenue Service's (IRS) most recent list of tax-exempt organizations described in section 501(c)(3) of the IRS code, or by providing a copy of the currently valid IRS tax exemption certificate, or by providing a copy of the articles of incorporation bearing the seal of the State in which the corporation or association is domiciled.

Part IV: Fiscal Year 2003 Priority Area for Projects of National

Significance Description and Requirements

The following section presents the Priority Area for Fiscal Year 2003 Projects of National Significance (PNS) and solicits the appropriate applications.

Fiscal Year 2003 Priority Area: Family Support 360

Eligible Applicants: Eligible applicants are limited to a lead agency designated by the Governor of the State or Territory. A letter from the Office of the Governor designating the applicant as the lead agency for the State/Territory must accompany the application. The designated lead agency may be a State or local agency, Tribal government, public or private nonprofit organization (including a faith-based organization), or an institution of higher learning.

Purpose: Through this competitive grant process, ADD will fund pilot projects to plan multi-agency partnerships to design at least one one-stop center to assist poor and/or geographically unserved or underserved families (including underserved families with racial, ethnic, or cultural minority backgrounds) with a child or adult member with a disability (hereafter referred to as “targeted families”) to preserve, strengthen, and maintain the family. Grant funds under this solicitation are for the costs associated with State planning activities, not the provision of direct services.

Families need access to comprehensive systems of family support services that are family-centered and family-directed, and that provide families with the greatest possible decision making authority and control regarding the nature and use of services and support for them and their members with disabilities. Families need to have the opportunity to participate in the design of family support services. Initiatives that involve families, that center around families, and that promote and develop interagency coordination and collaboration among agencies responsible for providing the services will contribute to family preservation and strengthening.

• Background Information: In order to preserve, strengthen, and maintain the family, targeted families often need services and supports that cut across agency lines. Services and supports may involve all or some of the following: Healthcare, Mental Health, Personal Assistance Services, Respite Care, Family Strengthening Services (such as parenting education and marriage education), Food Stamps, Cash Assistance, Accessible Transportation, Childcare, Accessible Housing, Early Intervention Services, Special Educational Opportunities, Job Training, Assistive Technology, and Employment with Reasonable Accommodations. These services and supports are available from a myriad of public and private providers, each of which has its own eligibility determination criteria and planning process. If a targeted family needs multiple services and supports, there are few States and communities with a comprehensive infrastructure to offer these families a seamless, one-point of entry (e.g., one-stop center) to establish eligibility and develop a family-centered plan to preserve and strengthen families with members with disabilities.

There are multiple funding streams and varied public and private entities that could contribute to a seamless system for targeted families. However, without funding and time to explore avenues for creating such a system, examples of promising practices will remain isolated and generally limited to demonstrating service integration for employment-related assistance for individuals with disabilities. Such efforts often result in improvements in services for individuals with disabilities seeking employment, but few opportunities for families to be strengthened and preserved as a family unit through access to a wide range of other services.

In this time of shrinking resources, it is imperative to support planning initiatives that will allow a variety of partners to discuss and develop consensus on how their collective resources could be used in a more family friendly manner. Successful States under this Program Announcement will receive planning grants to explore with their partners how to develop a common language, pool resources, coordinate services, and share expenses in order to reduce overhead and create a setting (i.e., one-stop center) in which outcome-oriented, family-centered, collaborative planning could occur.

Presently, there are several different Federal programs and funding streams available to State governments and local agencies to assist targeted families and potentially redesigned service systems. Some examples of such programs and funding streams include Medicaid Systems Change Grants, the Center for Medicaid and Medicare Services' (CMS) Independence Plus, Temporary Assistance to Needy Families (TANF), Vocational Rehabilitation, the Ticket-to-Work and direct benefit programs through the Social Security Administration, and one-stops of the Work Force Investment Act. This myriad of programs and funding sources can create a feeling of helplessness in individual families, making discovering and learning to understand the eligibility for each program even more challenging. State agency staff members and local caseworkers may also feel confused when attempting to coordinate the various services at the local level for families. The time has arrived for us to ask fundamental questions about the effectiveness of the service system and to explore, in partnership with families, avenues to create a truly family-centered service system.

In addition to the input from targeted families and the consensus of local and State leaders, the participation and collaboration of the State's DD Network will ensure the success of this planning project. For instance, each State's Developmental Disabilities Council has a wealth of knowledge about their State's programs, public policies, and service barriers to bring to the discussion table. The Protection and Advocacy Agencies have legal experience with and understanding of program eligibility criteria associated with the complexities of the service system. The University Centers for Excellence in Developmental Disabilities have expertise in evaluating the effectiveness of service programs and developing new and innovative projects to address the unmet needs of families.

While ADD welcomes an application from each State and Territory, the Commissioner is particularly interested in providing financial support to States/Territories that are just beginning to explore the issues relating to one-stop family centers and/or States/Territories with some limited experience with service integration efforts.

Successful grantees under this competition will have the opportunity to design a one-stop family center, in collaboration with State and local partners. It may be more practical for grantees to focus their partnership planning efforts on one location for the one-stop center and a limited number of families to be served by its staff. This approach will enable the grantees to identify and project specific funding needs, staffing requirements, collaborative agreements, day-to-day procedures, and other infrastructure considerations necessary for implementing a one-stop family center. Through such a creative and collaborative process, ADD anticipates that each grantee with its partners will develop a collective commitment to serving the targeted families and identify new ways for meeting the needs of individual families.

• Minimum Requirements for Project Design: ADD is particularly interested in supporting projects that include each of the activities and desired outcomes provided in the section below.

• Involvement and Input from Targeted Families. The meaningful involvement of individuals who are members of targeted families must be an essential and measurable element of all project planning and activities.

• Project Partnerships. Project activities must be conducted in partnership with at least one local elected official, the State Developmental Disabilities Council, the State Protection and Advocacy System, and the University Center(s) on Developmental Disabilities in the State/Territory, as well as others (including, but not limited to, disability-related service providers, advocacy groups, family support groups, family strengthening groups, and faith-based organizations).

• Building Consensus for an Implementation Plan. Projects should build a consensus for an implementation plan with their partners to establish and sustain a one-stop center for the targeted families. Implementation plans should include Federal, State, and local inter-agency collaboration, and public-private partnerships to achieve service integration for targeted families.

• Parameters for Services and Supports in the Implementation Plan. Implementation plans for the one-stop center must address the following parameters: information and referrals, as well as in-depth planning for services and supports with at least fifty (50) families on an annual basis. The families projected to be served would have access to individualized family-centered planning for services and supports. Individualized planning may focus on one or more the following areas of need: healthcare and mental health services, eligibility for personal assistance and supports (e.g., access to direct care workers, respite care, food stamps, and cash assistance), accessible transportation, childcare services, and family strengthening services (e.g., parenting education and marriage education), housing, and employment-related assistance.

• Assessment of the Capacity and Capability of Information Technology. A needs assessment for and/or design of an information system with a single point of entry for the one-stop center should be included in the applicant's project. This activity may involve identifying and testing existing software and hardware to support the computer and informational needs of the one-stop center or designing new technology.

• Analysis of Eligibility. A review of existing State and Federal laws that impact the targeted families must be a key element of each project. At a minimum, a legal analysis should provide a detailed summary of the following issues:

(1) Funding streams for services and support to families with members who have disabilities;

(2) The legal and policy barriers for targeted families to achieving self-sufficiency; and

(3) Eligibility criteria and other program requirements that may pose obstacles to serving targeted families.

• Training Needs. Each grantee should identify the training needs of staff members who would work with targeted families, and including educational and training issues for non-staff assisting the targeted families in other settings and environments.

• Existing Resources. Each grantee should identify existing State and local resources for targeted families, including information on services and supports that are available from community groups and faith-based organizations, including those that provide family strengthening services. This information would form the initial database for the one-stop center, leading to a catalog of services and supports for the staff members and targeted families.

• Development of Policies and Memoranda of Understanding (MOUs). Each grantee should develop MOUs, policy statements, and procedures between State and local partners on key issues for implementing the one-stop center. Some of the key issues to be agreed upon in this planning process among the partners should include the mission of the one-stop center, the eligible families for services, the roles of agencies' staff members, and the lead agency responsibilities.

• Final Product. The final product of this planning grant must be a written plan for implementing at least one one-stop center to assist targeted families to preserve and strengthen the family unit. The implementation plan must include, at a minimum, the following information:

1. Criteria and process for selecting targeted families to be served by the one-stop center. For example, families could be required to have eligibility for Medicaid, be among the geographically unserved or underserved in the State, have cultural minority backgrounds, or be eligible for TANF.

2. Criteria to be used to establish that a family has achieved the outcomes in its family-centered plan;

3. Description of operations and procedures relating to the following;

a. Outreach to and recruitment of targeted families;

b. Information and referral to targeted families, community organizations assisting families in need (including those involved in family strengthening), and others;

c. Intake, assessment, and determination of eligibility of families;

d. Development and monitoring of Individualized Family Plans (the process for developing and implementing the plans, including who will be involved in the plan development and who will monitor progress);

e. Records maintenance (access to and retrieval of files, and the confidentiality of the families personal information); and

f. Financing of services (a description of how funding for the services and supports in a family's plan could be secured);

4. Staffing patterns and staff requirements;

5. Roles of the participating agencies and organizations;

6. Organizational chart for the one-stop center;

7. Space and equipment requirements;

8. Time table for implementing this plan for the one-stop center; and

9. Budget requirements for the one-stop center.

• Key Personnel. Each grantee should ensure that key project personnel have direct life experience with living with a disability;

• Civil Rights. Each grantee must comply with the Americans with Disabilities Act, where applicable, and section 504 of the Rehabilitation Act of 1973 as amended by the Rehabilitation Act amendments of 1992 (Pub. L. 102-569); and

• Communication and Dissemination. Each grantee should have the capacity to communicate and disseminate information with their project partners and others through e-mail and other effective, affordable, and accessible forms of electronic communication.

Evaluation Criteria:

Five criteria will be used to review and evaluate each application. Each criterion should be addressed in the project description section of the application. The point values indicate the maximum numerical weight possible for each criterion in the review process. The specific information to be included under each of these headings is described in section G of Part III, General Instructions for the Uniform Project Description. Additional Information that must be addressed is described below.

Criterion 1: Approach (35 points)

The applicant must outline a sound, workable, and detailed plan of action, pertaining to the goals and objectives of the proposed project. Activities should be identified in chronological order, with target dates for accomplishment and the key personnel responsible for completing the activity. The plan of action should also clearly identify and delineate the roles and involvement of each of the proposed project's partners, collaborators, and/or sub-grantees.

The plan of action should involve the following types of information; (a) How the work will be accomplished; (b) factors that might accelerate or decelerate the work; (c) reasons for taking this approach as opposed to other possibilities; and (d) descriptions of innovations and/or unusual features (such as technological or design innovations, reductions in cost and/or time, or extraordinary community involvement). Additionally, the applicant must provide a discussion of how the expected results and benefits will be evaluated for the proposed project. This discussion should explain the methodology that will be used to determine if the needs identified and discussed in the application are being met and if the results and benefits identified are being achieved.

The following list provides the point value for each required item in this Criterion:

15 Points Outlines a sound, workable, and detailed plan of action, pertaining to the goals and objectives of the proposed project.

8 Points Discusses and explains the methodology to be used in determining if identified needs are being meet and expected results are being achieved.

4 Points Cites factors that might accelerate or decelerate the work.

4 Points Provides a rationale for taking this approach as opposed to other possibilities.

4 Points Describes innovations and/or unusual features of the proposed project.

Criterion 2: Objectives and Need for Assistance (20 points)

The application must identify the following information: (a) The need for assistance, (b) the objectives of the proposed project, (c) the precise location of the proposed project, and (d) the area to be served by the proposed project.

The applicant may accomplish this best by: (a) Pinpointing the relevant physical, economic, social, financial, institutional, or other problems requiring a solution; (b) demonstrating the need for the assistance; (c) stating the principal and subordinate objectives for the proposed project; (d) providing supporting documentation and/or other testimonies from concerned individuals and groups other than the applicant; (e) providing relevant data based on research or planning studies, and (f) including maps and other graphic aids.

The following list provides the point value for each required item in this Criterion:

5 Points Identifies and demonstrates the need for assistance.

5 Points States the principal and subordinate objectives for the proposed project.

4 Points Provides relevant data based on research and/or planning studies.

4 Points Provides supporting documentation and/or testimonies from concerned individuals and groups, other than the applicant.

2 Points Includes maps and other graphics identifying the precise location of the proposed project.

Criterion 3: Organization Profile (20 points)

The application identifies the background of the project director/principal investigator and key project staff (including name, address, training, educational background and other qualifying experience) and the experience of the organization to demonstrate the applicant's ability to effectively and efficiently administer this project. The applicant must describe the relationship between this project and other work that is planned, anticipated, or currently under way by the applicant.

This section should consist of a brief (two to three pages) background description of how the applicant organization (or the unit within the organization that will have responsibility for the project) is structured, the types and quantity of services it provides, and/or the research and management capabilities it possesses. It may include a description of any current or previous relevant experience; or it may describe the competence of the project team and its demonstrated ability to produce final products that are readily comprehensible and usable. An organization chart showing the relationship of the project to the current organization must be included.

The following list provides the point value for each required item in this Criterion:

6 Points Identifies the background of key staff members.

6 Points Demonstrates the organization's ability to administer the proposed project.

6 Points Describes and discusses the role and involvement of individuals with developmental disabilities and their families in the proposed project and organization.

2 Points Includes an organizational chart, depicting the relationship of the project to the current organization.

Criterion 4: Results or Benefits Expected (17 points)

The expected results and benefits of the proposed project should be consistent with the objectives of the application. The application must state the project's anticipated contributions to policy, practice, theory and/or research. The proposed project costs should be reasonable in view of the expected results.

The following list provides the point value for each required item in this Criterion:

10 Points States the anticipated contributions of the proposed project to policy, practice, theory, and/or research.

7 Points Expected results and benefits are consistent with the proposed project's goals and objectives.

Criterion 5: Budget and Budget Justification (8 points)

Applicants are expected to present a budget with reasonable project costs, appropriately allocated across component areas, and sufficient to accomplish the objectives. The requested funds for the project must be fully justified and documented.

Applications must provide a narrative budget justification that describes how the categorical costs are derived and discusses the reasonableness and appropriateness of the proposed costs. Line item allocations and justification are required for both Federal and non-Federal funds. A letter of commitment for the project's non-Federal resources must be submitted with the application in order to be given credit in the review process. A fully explained non-Federal share budget must be prepared for each funding source.

Applicants have the option of omitting the Social Security Numbers and specific salary rates of the proposed project personnel from the two copies submitted with the original application to ACF. For purposes of the outside review process, applicants may elect to summarize salary information on the copies of their application. All salary information must, however, appear on the signed original application for ACF.

The following list provides the point value for each required item in this Criterion:

3 Points Discusses and justifies the costs and reasonableness of the proposed project in view of the expected results and benefits.

3 Points Describes the fiscal controls and accounting procedures to be used.

2 Points Includes a fully explained non-Federal share budget and its source(s).

This year, five additional points will be added to the applicant's total in the scoring process for any project that includes partnership and collaboration with one or more of the 140 Empowerment Zones/Enterprise Communities. To receive the additional five points, the applicant must provide a clear outline for the collaboration and a discussion of how the involvement of the EZ/EC is related to the objectives and the activities of the project. Also, a letter from the appropriate representatives of the EZ/EC must accompany the application indicating its agreement to participate and describing its role in the project.

• Project Duration: ADD is soliciting applications for project periods up to one year (12 months) under this Priority Area. Awards, on a competitive basis, will be for a one-year budget period. Subject to the availability of funds, successful applicants for these planning grants will be eligible to compete for implementation funds in upcoming fiscal years.

• Federal Share of Project Costs: The maximum Federal share is not to exceed $100,000 for the 12-month budget period.

• Matching Requirement: Grantees must match $1 for every $3 requested in Federal funding to reach 25% of the total approved cost of the project. The total approved cost of the project is the sum of the ACF/ADD share and the non-Federal share. Cash or in-kind contributions may meet the non-Federal share, although applicants are encouraged to meet their match requirements through cash contributions. Therefore, a project requesting $100,000 in Federal funds must include a match of at least $33,333 (the total project cost is $133,333 of which $33,333 is 25%).

• Anticipated Number of Projects To Be Funded: ADD anticipates funding up to thirty (30) projects under this Priority Area in FY 2003.

• CFDA: ADD's CFDA (Catalogue of Federal Domestic Assistance) number is 93.631—Developmental Disabilities—Projects of National Significance. This information is needed to complete item 10 on the SF424.

• Applicable Administrative Regulations: Applicable administrative regulations include 45 CFR part 74, Administration of Grants, for Institutions of Higher Education, non-profit organizations and Indian Tribal Governments; and 45 CFR part 92, Uniform Administrative Requirement for Grants and Cooperative Agreements to State and Local Governments. Quarterly project reports and semi-annual financial reports are required from each successful applicant.

Part V: Instructions for the Development and Submission of Applications

This part contains information and instructions for submitting applications in response to this Program Announcement. An application package, containing all of the Federal required forms, can be obtained by contacting April Myers, Program Specialist: ADD, 370 L'Enfant Promenade SW., Mail Stop: HHH-300F, Washington, DC, 20447, or by visiting ADD's Web site at http://www.acf.hhs.gov/programs/add. Additionally, one may send their request by e-mail to amyers@acf.hhs.gov or by fax to (202) 690-6904 (Attention: April Myers).

Potential applicants should read this section carefully in conjunction with the information contained within the specific Priority Area. The Priority Area description is in part IV.

A. Required Notification of the State Single Point of Contact (SPOC)

All applications under the ADD Priority Area are required to follow the Executive Order (E.O.) 12372 process, “Intergovernmental Review of Federal Programs,” and 45 CFR part 100, “Intergovernmental Review of Department of Health and Human Services Program and Activities.” Under the Order, States may design their own processes for reviewing and commenting on proposed Federal assistance under covered programs.

Note: State/Territory participation in the intergovernmental review process does not signify applicant eligibility for financial assistance under a program. A potential applicant must meet the eligibility requirements of the program for which it is applying prior to submitting an application to its State Single Point of Contact (SPOC), if applicable, or to ACF.

All States and Territories, except Alabama, Alaska, Arizona, Colorado, Connecticut, Hawaii, Idaho, Indiana, Kansas, Louisiana, Massachusetts, Minnesota, Montana, Nebraska, New Jersey, Ohio, Oklahoma, Oregon, Palau, Pennsylvania, South Dakota, Tennessee, Vermont, Virginia, Washington, and Wyoming have elected to participate in the Executive Order process and have established a State Single Point of Contact (SPOC). Applicants from these jurisdictions or for projects administered by Federally recognized Indian Tribes need take no action regarding E.O. 12372. Otherwise, applicants should contact their SPOCs as soon as possible to alert them of the prospective applications and receive any necessary instructions.

Applicants must submit all required materials to the SPOC as soon as possible so that the program office can obtain and review SPOC comments as part of the award process. It is imperative that the applicant submits all required materials and indicate the date of this submittal (or date SPOC was contacted, if no submittal is required) on the SF 424, item 16a.

Under 45 CFR 100.8(a)(2), a SPOC has 60 days from the application due date to comment on proposed new or competing continuation awards. However, there is insufficient time to allow for a complete SPOC comment period. Therefore, we have reduced the comment period to 30 days from the closing date for applications. These comments are reviewed as part of the award process. Failure to notify the SPOC can result in delays in awarding grants.

SPOCs are encouraged to eliminate the submission of routine endorsements as official recommendations. Additionally, SPOCs are requested to clearly differentiate between mere advisory comments and those official State process recommendations that may trigger the “accommodate or explain” rule.

When comments are submitted directly to ACF/ADD, they should be addressed to: Department of Health and Human Services, Administration for Children and Families, Office of Grants Management, 370 L'Enfant Promenade, SW., 8th Floor Washington, DC 20447, Attn: Lois Hodge, ADD—Projects of National Significance.

Contact information for each State's SPOC can be found on the OMB Web site at http://www.whitehouse.gov/omb/grants/spoc.html or by contacting your State Governor's office.

B. Notification of State Developmental Disabilities Councils

A copy of the application must also be submitted for review and comment to the State Developmental Disabilities Council in each State in which the applicant's project will be conducted. The Council review comments are not required concurrently with the grant application, but must be received by ADD prior to the award process. A list of the State Developmental Disabilities Councils can be found at ADD's Web site: http://www.acf.hhs.gov/programs/add under Programs, or by contacting April Myers, ADD, 370 L'Enfant Promenade SW., Mail Stop: HHH-300F, Washington, DC, 20447, (202) 690-5985.

C. Instructions for Preparing the Application and Completing Application Forms

The SF 424, SF 424A, SF 424A-Page 2 and Certifications/Assurances are contained in the application package. Assurances and Certifications may be located on the following Web site: http://acf.hhs.gov/programs/ofs/forms.htm. Please prepare your application in accordance with the following instructions:

1. SF 424 Page 1, Application Cover Sheet

Please read the following instructions before completing the application cover sheet. An explanation of each item is included. Complete only the items specified.

Top of Page: Enter the selected Priority Area under which the application is being submitted.

Item 1. “Type of Submission.”

Item 2. “Date Submitted” and “Applicant Identifier”—Date application is submitted to ACF/ADD and applicant's own internal control number, if applicable.

Item 3. “Date Received By State”—State use only (if applicable).

Item 4. “Date Received by Federal Agency”—Leave blank.

Item 5. “Applicant Information.”

“Legal Name”—Enter the legal name of applicant organization. For applications developed jointly, enter the name of the lead organization only. There must be a single applicant for each application.

“Organizational Unit”—Enter the name of the primary unit within the applicant organization that will actually carry out the project activity. Do not use the name of an individual as the applicant. If this is the same as the applicant organization, leave the organizational unit blank.

“Address”—Enter the complete address that the organization actually uses to receive mail, since this is the address to which all correspondence will be sent. Do not include both street address and P.O. box number unless both must be used in mailing.

“Name and telephone number of the person to be contacted on matters involving this application (give area code)”—Enter the full name (including academic degree, if applicable) and telephone number of a person who can respond to questions about the application. This person should be accessible at the address given here and will receive all correspondence regarding the application.

Item 6. “Employer Identification Number (EIN)”—Enter the employer identification number of the applicant organization, as assigned by the Internal Revenue Service, including, if known, the Central Registry System suffix.

Item 7. “Type of Applicant”—Self-explanatory.

Item 8. “Type of Application”—Preprinted on the form.

Item 9. “Name of Federal Agency”—Preprinted on the form.

Item 10. “Catalog of Federal Domestic Assistance Number and Title”—Enter the Catalog of Federal Domestic Assistance (CFDA) number assigned to the program under which assistance is requested and its title. For the Priority Area, the following should be entered, “93.631—Developmental Disabilities: Projects of National Significance.”

Item 11. “Descriptive Title of Applicant's Project”—Enter the project title. The title is generally short and is descriptive of the project, and is not the same as Priority Area title.

Item 12. “Areas Affected by Project”—Enter the governmental unit where significant and meaningful impact could be observed. List only the largest unit or units affected, such as State, county, or city. If an entire unit is affected, list it rather than subunits.

Item 13. “Proposed Project”—Enter the desired start date for the project and projected completion date.

Item 14. “Congressional District of Applicant/Project”—Enter the number of the Congressional district where the applicant's principal office is located and the number of the Congressional district(s) where the project will be located. If Statewide, a multi-State effort, or nationwide, enter “00.”

Items 15. “Estimated Funding Levels”—In completing 15a through 15f, the dollar amounts entered should reflect, for a 12-month project period, the total amount requested. If the proposed project period exceeds 17 months, enter only those dollar amounts needed for the first 12 months of the proposed project.

Item 15a. Enter the amount of Federal funds requested in accordance with the preceding paragraph. This amount should be no greater than the maximum amount specified in the Priority Area description.

Items 15b-e. Enter the amount(s) of funds from non-Federal sources that will be contributed to the proposed project. Items b-e are considered cost sharing or “matching funds.” The value of third party in-kind contributions should be included on appropriate lines as applicable. For more information regarding funding as well as exceptions to these rules, see part III, sections E and F, and the specific area of emphasis description.

Item 15f. Enter the estimated amount of program income, if any, expected to be generated from the proposed project. Do not add or subtract this amount from the total project amount entered under item 15g. Describe the nature, source and anticipated use of this program income in the Project Narrative Statement.

Item 15g. Enter the sum of items 15a-15e.

Item 16a. “Is Application Subject to Review by State Executive Order 12372 Process?” If yes, enter the date the applicant contacted the SPOC regarding this application. The review of the application is at the discretion of the SPOC. The SPOC will verify the date noted on the application.

Item 16b. “Is Application Subject to Review by State Executive Order 12372 Process?” If no, check the appropriate box if the application is not covered by E.O. 12372 or if the program has not been selected by the State for review.

Item 17. “Is the Applicant Delinquent on any Federal Debt?”—Check the appropriate box. This question applies to the applicant organization, not the person who signs as the authorized representative. Categories of debt include audit disallowances, loans, and taxes.

Item 18. “To the best of my knowledge and belief, all data in this application/pre-application are true and correct. The document has been duly authorized by the governing body of the applicant and the applicant will comply with the attached assurances if the assistance is awarded.”—To be signed by the authorized representative of the applicant. A copy of the governing body's authorization for signature of this application by this individual as the official representative must be on file in the applicant's office, and may be requested from the applicant.

Item 18a-c. “Typed Name of Authorized Representative, Title, Telephone Number”—Enter the name, title and telephone number of the authorized representative of the applicant organization.

Item 18d. “Signature of Authorized Representative”—Signature of the authorized representative named in Item 18a. At least one copy of the application must have an original signature. Use colored ink (not black) so that the original signature is easily identified.

Item 18e. “Date Signed”— Enter the date the application was signed by the authorized representative.

2. SF 424A—Budget Information—Non-Construction Programs

This is a form used by many Federal agencies. For this application, sections A, B, C, E and F are to be completed. Section D does not need to be completed.

Sections A and B should include the Federal as well as the non-Federal funding for the proposed project covering; (1) the total project period of 17 months or less or (2) the first year budget period, if the proposed project period exceeds 15 months.

Section A—Budget Summary. This section includes a summary of the budget. On line 5, enter total Federal costs in column (e) and total non-Federal costs, including third party in-kind contributions, but not program income, in column (f). Enter the total of (e) and (f) in column (g).

Section B—Budget Categories. This budget, which includes the Federal as well as non-Federal funding for the proposed project, covers (1) the total project period of 12 months or (2) the first-year budget period if the proposed project period exceeds 12 months. It should relate to item 15g, total funding, on the SF 424. Under column (5), enter the total requirements for funds (Federal and non-Federal) by object class category.

A separate budget justification should be included to explain fully and justify major items, as indicated below. The types of information to be included in the justification are indicated under each category. The budget justification should immediately follow the second page of the SF 424A.

Personnel—Line 6a. Enter the total costs of salaries and wages of applicant/grantee staff. Do not include the costs of consultants, which should be included on line 6h, “Other.”

Justification: Identify the principal investigator or project director, if known. Specify by title or name the percentage of time allocated to the project, the individual annual salaries, and the cost to the project (both Federal and non-Federal) of the organization's staff who will be working on the project.

Fringe Benefits—Line 6b. Enter the total costs of fringe benefits, unless treated as part of an approved indirect cost rate.

Justification: Provide a break-down of amounts and percentages that comprise fringe benefit costs, such as health insurance, FICA, retirement insurance, etc.

Travel—Line 6c. Enter total costs of out-of-town travel (travel requiring per diem) for staff of the project. Do not enter costs for consultant's travel or local transportation, which should be included on Line 6h, “Other.”

Justification: Include the name(s) of traveler(s), total number of trips, destinations, length of stay, transportation costs and subsistence allowances.

Equipment—Line 6d. Enter the total costs of all equipment to be acquired by the project. For State and local governments, including Federally recognized Indian Tribes, “equipment” is tangible, non-expendable personal property having a useful life of more than one year and acquisition cost of $5,000 or more per unit.

Justification: Equipment to be purchased with Federal funds must be justified. The equipment must be required to conduct the project, and the applicant organization or its subgrantees must not have the equipment or a reasonable facsimile available to the project. The justification also must contain plans for future use or disposal of the equipment after the project ends.

Supplies—Line 6e. Enter the total costs of all tangible expendable personal property (supplies) other than those included on Line 6d.

Justification: Specify general categories of supplies and their costs.

Contractual—Line 6f. Enter the total costs of all contracts, including; (1) procurement contracts (except those which belong on other lines such as equipment, supplies, etc.) and (2) contracts with secondary recipient organizations, including delegate agencies. Also include any contracts with organizations for the provision of technical assistance. Do not include payments to individuals on this line. If the name of the contractor, scope of work, and estimated total costs are not available or have not been negotiated, include on Line 6h, “Other.”

Justification: Attach a list of contractors, indicating the names of the organizations, the purposes of the contracts, and the estimated dollar amounts of the awards as part of the budget justification. Whenever the applicant/grantee intends to delegate part or all of the program to another agency, the applicant/grantee must complete this section (section B, Budget Categories) for each delegate agency by agency title, along with the supporting information. The total cost of all such agencies will be part of the amount shown on Line 6f. Provide backup documentation identifying the name of contractor, purpose of contract, and major cost elements.

Construction—Line 6g. Not applicable. New construction is not allowable.

Other—Line 6h. Enter the total of all other costs. Where applicable, such costs may include, but are not limited to: insurance; medical and dental costs; noncontractual fees and travel paid directly to individual consultants; local transportation (all travel which does not require per diem is considered local travel); space and equipment rentals; printing and publication; computer use; training costs, including tuition and stipends; training service costs, including wage payments to individuals and supportive service payments; and staff development costs. Note that costs identified as “miscellaneous” and “honoraria” are not allowable.

Justification: Specify the costs included.

Total Direct Charges—Line 6i. Enter the total of Lines 6a through 6h.

Indirect Charges—Line 6j. Enter the total amount of indirect charges (costs). If no indirect costs are requested, enter “none.” Generally, this line should be used when the applicant (except local governments) has a current indirect cost rate agreement approved by the Department of Health and Human Services or another Federal agency.

Local and State governments should enter the amount of indirect costs determined in accordance with HHS requirements. When an indirect cost rate is requested, these costs are included in the indirect cost pool and should not be charged again as direct costs to the grant.

In the case of training grants to other than State or local governments (as defined in title 45, Code of Federal Regulations, part 74), the Federal reimbursement of indirect costs will be limited to the lesser of the negotiated (or actual) indirect cost rate or 8 percent of the amount allowed for direct costs, exclusive of any equipment charges, rental of space, tuition and fees, post-doctoral training allowances, contractual items, and alterations and renovations.

For training grant applications, the entry under line 6j should be the total indirect costs being charged to the project. The Federal share of indirect costs is calculated as shown above. The applicant's share is calculated as follows:

(a) Calculate total project indirect costs (a*) by applying the applicant's approved indirect cost rate to the total project (Federal and non-Federal) direct costs.

(b) Calculate the Federal share of indirect costs (b*) at 8 percent of the amount allowed for total project (Federal and non-Federal) direct costs exclusive of any equipment charges, rental of space, tuition and fees, post-doctoral training allowances, contractual items, and alterations and renovations.

(c) Subtract (b*) from (a*). The remainder is what the applicant can claim as part of its matching cost contribution.

Justification: Enclose a copy of the indirect cost rate agreement. Applicants subject to the limitation on the Federal reimbursement of indirect costs for training grants should specify this.

Total—Line 6k. Enter the total amounts of lines 6i and 6j.

Program Income—Line 7. Enter the estimated amount of income, if any, expected to be generated from this project. Do not add or subtract this amount from the total project amount.

Justification: Describe the nature, source, and anticipated use of program income in the Program Narrative Statement.

Section C—Non-Federal Resources. This section summarizes the amounts of non-Federal resources that will be applied to the grant. Enter this information on line 12 entitled “Totals.” In-kind contributions are defined in title 45 of the Code of Federal Regulations, parts 74.51 and 92.24, as “property or services which benefit a grant-supported project or program and which are contributed by non-Federal third parties without charge to the grantee, the subgrantee, or a cost-type contractor under the grant or subgrant.”

Justification: Describe third party in-kind contributions, if included.

Section D—Forecasted Cash Needs. Not applicable.

Section E—Budget Estimate of Federal Funds Needed For Balance of the Project. This section should only be completed if the total project period exceeds 17 months.

Totals—Line 20. For projects that will have more than one budget period, enter the estimated required Federal funds for the second budget period (months 13 through 24) under column “(b) First.” If a third budget period will be necessary, enter the Federal funds needed for months 25 through 36 under “(c) Second.” Columns (d) and (e) are not applicable in most instances, since ACF/ADD funding is almost always limited to a three-year maximum project period. They should remain blank.

Section F—Other Budget Information.

Direct Charges—Line 21. Not applicable.

Indirect Charges—Line 22. Enter the type of indirect rate (provisional, predetermined, final or fixed) that will be in effect during the funding period, the estimated amount of the base to which the rate is applied, and the total indirect expense.

Remarks—Line 23. If the total project period exceeds 17 months, you must enter your proposed non-Federal share of the project budget for each of the remaining years of the project.

Applicants have the option of omitting the Social Security Numbers and specific salary rates of the proposed project personnel from the two copies submitted with the original application to ACF. For purposes of the outside review process, applicants may elect to summarize salary information on the copies of their application. All salary information must, however, appear on the signed original application for ACF.

3. Project Description

The Project Description is a very important part of an application. It should be clear, concise, and address the specific requirements mentioned under the Priority Area in part IV. The narrative should also provide information concerning how the application meets the evaluation criteria, using the following headings:

(a) Objectives and Need for Assistance;

(b) Results and Benefits Expected;

(c) Approach; and

(d) Organization Profile.

The specific information to be included under each of these headings is described in section G of part III, General Instructions for the Uniform Project Description.

The narrative should be typed double-spaced on a single-side of an 8½″ x 11″ plain white paper, with 1″ margins on all sides, using black print no smaller than 12 pitch or 12 point size. All pages of the narrative, including attachments (such as charts, references/footnotes, tables, maps, exhibits, etc.) and letters of support must be sequentially numbered, beginning with “Objectives and Need for Assistance” as page number one. Applicants should not submit reproductions of larger size paper, reduced to meet the size requirement.

The length of the application, including all attachments and required Federal forms, must not exceed 60 pages. The federally required forms will be count towards the total number of pages. The 60-page limit will be strictly enforced. All pages beyond the first 60 pages of text will be removed prior to applications being evaluated by the reviewers. A page is a single side of an 8½″ x 11″ sheet of paper with 1″ margins.

Applicants are requested not to send pamphlets, brochures or other printed material along with their application as these pose copying difficulties. These materials, if submitted, will not be included in the review process if they exceed the 60-page limit. Each page of the application will be counted to determine the total length.

4. Part V: Assurances/Certifications

Applicants are required to submit a SF 424B, Assurances—Non-Construction Programs and the Certification Regarding Lobbying. Applicants must provide a certification concerning lobbying. Prior to receiving an award in excess of $100,000, applicants should furnish an executed copy of the lobbying certification (approved by the Office of Management and Budget under control number 0348-0046). Applicants must sign and return the certification with their application.

Applicants must make the appropriate certification of their compliance with the Drug-Free Workplace Act of 1988. By signing and submitting the application, applicants are providing the certification and need not mail back the certification with the application.

Applicants must make the appropriate certification that they are not presently debarred, suspended or otherwise ineligible for the award. By signing and submitting the application, applicants are providing the certification and need not mail back the certification with the application.

Applicant must also understand that they will be held accountable for the smoking prohibition included within Public Law 103-227, part C Environmental Tobacco Smoke (also known as the Pro-Children's Act of 1994). A copy of the Federal Register notice which implements the smoking prohibition is included with forms. By signing and submitting the application, applicants are providing the certification and need not mail back the certification with the application.

In addition, applicants are required under section 162(c)(3) of the Act to provide assurances that the human rights of all individuals with developmental disabilities (especially those individuals without familial protection) who will receive services under projects assisted under part E will be protected consistent with section 110 (relating to the rights of individuals with developmental disabilities). Each application must include a statement providing this assurance.

For research projects in which human subjects may be at risk, a Protection of Human Subjects Assurance may be required. If there is a question regarding the applicability of this assurance, contact the Office for Research Risks of the National Institutes of Health at (301) 496-7041.

D. Checklist for a Complete Application

The checklist below is for your use to ensure that your application package has been properly prepared.

—One original, signed and dated application, plus two copies;

—Application is from an organization that is eligible under the eligibility requirements, defined in the Priority Area description; and

—Application length does not exceed 60 pages, including attachments and all federally required forms.

A complete application consists of the following items in this order:

—Application for Federal Assistance (SF 424, REV 4-88);

—A completed SPOC certification with the date of SPOC contact entered in line 16, page 1 of the SF 424 if applicable;

—Budget Information—Non-Construction Programs (SF 424A, REV 4-88);

—Budget justification for Section B—Budget Categories;

—Table of Contents;

—Letter from the Internal Revenue Service, etc. to prove non-profit status, if necessary;

—Copy of the applicant's approved indirect cost rate agreement, if appropriate;

—Letter from the Governor in the applicant's State or Territory designating the applicant as the lead agency;

—Project Description (See Part III, Section C);

—Letter(s) of commitment verifying non-Federal cost share

—Any appendices/attachments;

—Assurances—Non-Construction Programs (Standard Form 424B, REV 4-88);

—Certification Regarding Lobbying;

—Certification of Protection of Human Subjects, if necessary; and

—Certification of the Pro Children Act of 1994; signature on the application represents certification.

E. The Application Package

Each application package must include an original and two copies of the complete application. Each copy should be stapled securely (front and back if necessary) in the upper left-hand corner. All pages of the narrative (including charts, tables, maps, exhibits, etc.) must be sequentially numbered, beginning with page one. In order to facilitate handling, please do not use covers, binders or tabs. Do not include extraneous materials as attachments, such as agency promotion brochures, slides, tapes, film clips, minutes of meetings, survey instruments or articles of incorporation.

F. Paperwork Reduction Act of 1995 (Pub. L. 104-13)

The Uniform Project Description information collection within this announcement is approved under the Uniform Project Description (0970-0139), Expiration Date 12/31/2003.

Public reporting burden for this collection of information is estimated to average 10 hours per response, including the time for reviewing instructions, gathering and maintaining the data needed, and reviewing the collection of information.

Any Federal agency may not conduct or sponsor, and a person is not required to respond to, a collection of information unless it displays a currently valid OMB control number.

(Federal Catalogue of Domestic Assistance Number 93.631 Developmental Disabilities—Projects of National Significance)

Dated: July 8, 2003.
Patricia A. Morrissey,
Commissioner, Administration on Developmental Disabilities.

[FR Doc. 03-17842 Filed 7-14-03; 8:45 am]

BILLING CODE 4184-01-P